DEPARTMENT OF COMMERCE

International Trade Administration

Architecture Services Trade Mission to Rio de Janeiro and Recife, Brazil, October 7-10, 2013

AGENCY: International Trade Administration, Department of Commerce.

ACTION: Amendment.

SUMMARY: The United States Department of Commerce, International Trade Administration, U.S. and Foreign Commercial Service is amending the Notice published at 78 FR 38687, June 27, 2013, regarding the Architecture Services Trade Mission to Rio de Janeiro and Recife, Brazil scheduled for October 7-10, 2013, to revise the mission description from executive-led to non-executive led.

FOR FURTHER INFORMATION CONTACT: Arica Young, Commercial Service, Trade Promotion Programs, Phone: 202-482-6219; Fax: 202-482-9000, Email: Arica.Young@trade.gov.

Frank Spector,
Senior International Trade Specialist.

[FR Doc. 2013-22826 Filed 9-18-13; 8:45 am]

BILLING CODE 3510-FP-P